SMALL BUSINESS ADMINISTRATION

Data Collection Available for Public Comments

ACTION: 60-Day notice of information collection and request for comments.

SUMMARY: The Small Business Administration (SBA) intends to request approval from the Office of Management and Budget (OMB) for the collection of information described below. The Paperwork Reduction Act (PRA) of 1995 requires Federal agencies to publish a notice in the Federal Register concerning each proposed collection of information before submission to OMB, and to allow 60 days for public comment in response to the notice. This notice complies with that requirement.

DATES: Submit comments on or before July 7, 2025.

ADDRESSES: Send all comments to Shay Meinzer, Lead Program Evaluator, shay.meinzer@sba.gov.

FOR FURTHER INFORMATION CONTACT: Shay Meinzer, Lead Program Evaluator, Office of Strategic Management and Enterprise Integrity, Small Business Administration, shay.meinzer@sba.gov, 202-539-1429.

SUPPLEMENTARY INFORMATION: The SBA intends to design and conduct evidence-building activities of SBA programs. SBA's evidence-building activities include formative evaluations of existing programs, process, and new initiatives; logic model development and testing; process or journey mapping; research syntheses; survey, questionnaire, and metric development; analysis; and foundational fact-finding through descriptive and exploratory studies.

Under this generic clearance, the SBA would engage in a variety of techniques to collect information from the public, including grantees, current and potential program providers and participants, researchers, practitioners, and other stakeholders. Participation in data collections is strictly voluntary. The information will provide insights into the public's perceptions, experience, and expectations, and be used to

• maintain a rigorous and relevant evaluation and research agenda,

• inform the development of SBA's evidence-building activities,

• inform the delivery of targeted assistance and workflows related to program and grantee processes,

• inform the development and refinement of recordkeeping and communication systems,

• plan for provision of programmatic or evidence-capacity-related training or technical assistance,

• obtain grantee or stakeholder input on the development or refinement of program logic models, evaluations, and performance measures, and

• test activities to strengthen programs in preparation for summative evaluations.

The aggregated results of this work may be prepared for presentation at professional meetings or disseminated in evaluation reports, research papers, and professional journals. When necessary, results will be labeled as formative or exploratory.

Solicitation of Public Comments: The SBA requests comments on (a) whether the collection of information is necessary for the agency to perform its functions properly; (b) whether the burden estimates are accurate; (c) whether there are ways to minimize the burden, including through the use of automated techniques or other forms of information technology; and (d) whether there are ways to enhance the quality, utility, and clarity of the information collected.

Summary of Information Collection

OMB Control Number: 3245-0425.

Title: Generic Clearance Formative Data Collections for Evaluation, Research, and Evidence-Building.

Description of Respondents: Grantees, current and potential program providers and participants, researchers, practitioners, and other stakeholders.

Total Estimated Annual Responses: 5,000.

Total Estimated Annual Hour Burden: 2,500.

Curtis B. Rich,
Agency Clearance Officer.

[FR Doc. 2025-07822 Filed 5-5-25; 8:45 am]

BILLING CODE 8026-09-P